FEDERAL RETIREMENT THRIFT INVESTMENT BOARD

Sunshine Act Meeting

Time and Date: 10 a.m. (EST) March 18, 2002.

Place: 4th Floor, Conference Room 4506, 1250 H Street, NW., Washington, DC.

Status: Open.

Matters to be Considered: 1. Approval of the minutes of the February 19, 2002, Board member meeting.

2. Thrift Savings Plan activity report by the Executive Director.

CONTACT PERSON FOR MORE INFORMATION: Thomas J. Trabucco, Director, Office of External Affairs. (202) 942-1640.

Dated: March 5, 2001.
Elizabeth S. Woodruff,
Secretary to the Board, Federal Retirement Thrift Investment Board.

[FR Doc. 02-5748 Filed 3-6-02; 2:15 pm]

BILLING CODE 6760-01-M